DEPARTMENT OF AGRICULTURE

Animal and Plant Health Inspection Service

9 CFR Parts 71, 93, 94, 98, and 130

[Docket No. 01-074-1]

Classical Swine Fever Status of Mexican States of Baja California, Baja California Sur, Chihuahua, and Sinaloa

AGENCY: Animal and Plant Health Inspection Service, USDA.

ACTION: Proposed rule.

SUMMARY: We are proposing to amend the regulations by adding the Mexican States of Baja California, Baja California Sur, Chihuahua, and Sinaloa to the list of regions considered free of classical swine fever. We have conducted a series of risk evaluations and have determined that these four States have met our requirements for being recognized as free of this disease. This proposed action would allow importation into the United States of pork, pork products, live swine, and swine semen from these regions and would eliminate restrictions that no longer appear necessary.

DATES: We will consider all comments we receive that are postmarked, delivered, or e-mailed by July 12, 2002.

ADDRESSES: You may submit comments by postal mail/commercial delivery or by e-mail. If you use postal mail/commercial delivery, please send four copies of your comment (an original and three copies) to: Docket No. 01-074-1, Regulatory Analysis and Development, PPD, APHIS, Station 3C71, 4700 River Road Unit 118, Riverdale, MD 20737-1238. Please state that your comment refers to Docket No. 01-074-1. If you use e-mail, address your comment to regulations@aphis.usda.gov. Your comment must be contained in the body of your message; do not send attached files. Please include your name and address in your message and “Docket No. 01-074-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Hatim Gubara, Staff Veterinarian, Regionalization Evaluation Services Staff, National Center for Import and Export, VS, APHIS, 4700 River Road Unit 38, Riverdale, MD 20737-1231; phone (301) 734-4356, fax (301) 734-3222.

SUPPLEMENTARY INFORMATION:

Background

The Animal and Plant Health Inspection Service (APHIS) of the United States Department of Agriculture (the Department) regulates the importation of animals and animal products into the United States to guard against the introduction of animal diseases not currently present or prevalent in this country. The regulations pertaining to the importation of animals and animal products are set forth in the Code of Federal Regulations (CFR), title 9, chapter I, subchapter D (9 CFR parts 91 through 99).

Until several years ago, the regulations in parts 91 through 99 (referred to below as the regulations) governed the importation of animals and animal products according to the recognized disease status of the exporting country. In general, if a disease occurred anywhere within a country's borders, the entire country was considered to be affected with the disease, and importations of animals and animal products from anywhere in the country were regulated accordingly. However, international trade agreements entered into by the United States— specifically, the North American Free Trade Agreement and the World Trade Organization Agreement on Sanitary and Phytosanitary Measures—require APHIS to recognize regions, rather than only countries, for the purpose of regulating the importation of animals and animal products into the United States.

Consequently, on October 28, 1997, we published in the Federal Register a final rule (62 FR 56000-56026, Docket No. 94-106-9, effective November 28, 1997) and a policy statement (62 FR 56027-56033, Docket No. 94-106-8) that established procedures for recognizing regions (referred to below as “regionalization”) for the purpose of regulating the importation of animals and animal products. With the establishment of those procedures, APHIS may consider requests to allow the importation of a particular type of animal or animal product from a foreign region, as well as requests to recognize all or part of a country or countries as a region. The regulations define the term region, in part, as “any defined geographic land area identifiable by geological, political, or surveyed boundaries.”

In accordance with these regionalization procedures, we are proposing to amend the regulations in §§ 94.9 and 94.10 by adding the Mexican States of Baja California, Baja California Sur, Chihuahua, and Sinaloa to the list of regions considered free of classical swine fever (CSF). The proposed rule would allow importation into the United States of pork, pork products, live swine, and swine semen from these regions and would eliminate restrictions that no longer appear necessary.

Change in Terminology

Our regulations in 9 CFR chapter I use the term “hog cholera.” However, it is standard practice among veterinary practitioners in the international community to refer to hog cholera as “classical swine fever.” Therefore, in the remainder of this proposed rule, including the regulatory text at the end of this document, we use the term “classical swine fever,” or the abbreviation CSF, rather than “hog cholera.” Additionally, for the sake of consistency throughout our regulations in 9 CFR chapter I, we are proposing to remove the term “hog cholera” wherever it appears in the regulations (i.e., parts 71, 93, 94, 98, and 130) and add in its place the term “classical swine fever.”

Risk Evaluation

Using the information submitted to us by the Government of Mexico and the Governments of the Mexican States of Baja California, Baja California Sur, Chihuahua, and Sinaloa, as well as information gathered during site visits by APHIS staff to Chihuahua in 1995 and 1997 and to Sinaloa in 1997, we have reviewed and analyzed the animal health status of these four States relative to CSF. This review and analysis was conducted in light of the factors identified in § 92.2, “Application for recognition of the animal health status of a region,” which are used to evaluate the risk associated with importing animals or animal products into the United States from a given region. Based on the information submitted to us, we have concluded the following:

Veterinary Infrastructure

A decree published in Mexico's Federal Official Daily on March 25, 1980, established a national campaign for the control and eradication of CSF. The campaign is mandatory and permanent throughout the entire country. Animal disease control and eradication programs operate under the authority of the Federal Secretariat for Agriculture, Livestock, Rural Development, Fisheries and Food Safety (SAGARPA), and its subordinate Directorate for Animal Health (DGSA). International sea and airport border control for animal and plant products is under the authority of SAGARPA and its subordinate Directorate for Phyto and Zoosanitary Inspection (DGIF).

Baja California

Baja California is divided into two rural development districts with supportive technical staff coordinated by the SAGARPA delegation. A collaborative relationship exists among the pork producers' association, the SAGARPA delegation and other Federal personnel, and the State animal health official from the central offices. For international control of the movement of livestock and animal byproducts, there are five animal health inspection offices with official veterinary inspectors. At the airports and ports there are sanitary control points. Hog slaughtering and processing are done in Federal Inspection Standard (TIF) establishments that comply with international sanitary requirements and have official veterinary sanitary officers and supervision and certification by the countries to which they export.

Baja California Sur

The State is subdivided into four rural development districts. Six animal health inspection offices control the international movement of livestock and animal byproducts. Sanitary control offices exist at all airports and ports. Hog slaughtering and processing are done in municipal facilities, which have official veterinary sanitary officers providing supervision and inspection.

Chihuahua

Chihuahua is divided into two rural development districts with technical staff coordinated by the SAGARPA delegation. An APHIS site visit conducted in February 1997 determined that the cooperative relationships that exist among the pork producers' association, the SAGARPA delegation and other Federal personnel, and the State animal health official from the central offices are excellent and that the veterinary infrastructure is efficient and reliable. For international control of the movement of livestock and animal byproducts, Chihuahua has 3 animal health offices with official veterinary inspectors and 10 checkpoints for controlling overland movement. Hog slaughtering and processing are done in TIF establishments that comply with international sanitary requirements and have official veterinary sanitary officers and supervision and certification by the countries to which they export.

Sinaloa

Sinaloa is divided into six rural development districts with technical staff coordinated by the SAGARPA delegation. An APHIS site visit conducted in February 1997 determined that the cooperative relationships that exist among the pork producers' association, the SAGARPA delegation and other Federal personnel, and the State animal health official from the central offices are excellent and that the veterinary infrastructure is efficient and reliable. Hog slaughtering and processing are done in TIF establishments that comply with international sanitary requirements and have official veterinary sanitary officers and supervision and certification by the countries to which they export.

Disease History and Surveillance

In regions, States, or areas under eradication or free of CSF in Mexico, the Federal and State governments, as well as swine owners or producers and accredited veterinarians, have responsibility for maintaining epidemiological surveillance for CSF. Surveillance includes inspection of swine products and byproducts and of the official documentation required for the control of movement from eradication areas into free areas, as well as virological monitoring by government and producers. Mexico is currently seeking to eradicate pseudorabies. Blood samples collected for the pseudorabies campaign are also tested for CSF, thus providing additional surveillance of that disease.

Baja California

CSF has not been diagnosed in Baja California since at least 1990, despite intensive and ongoing surveillance. The State maintains an active surveillance system, which includes reporting all suspected cases and sampling from commercial and backyard farms. To confirm the absence of CSF in Baja California, ongoing epidemiological surveys are carried out. Since 1997, at least 2,072 samples have been tested annually, with all samples negative for CSF.

Baja California Sur

Mexico recognized Baja California Sur as free of CSF in October 1991, based on an epidemiological survey in which 524 sera and 280 tissue samples were collected from swine slaughtered in municipal abattoirs. Four subsequent outbreaks occurred in the State (one in 1993, two in 1994, and one in 1995), but there have been no reported outbreaks since 1995. Intensive surveillance was initiated after each outbreak to identify the focus and extent of the outbreak, and to confirm that depopulation of infected and exposed animals had eradicated the outbreak. Sera are collected during annual surveillance to confirm the absence of the CSF virus.

Chihuahua

Chihuahua has not reported a case of CSF in over 10 years. The last reported outbreak was in 1989, and eradication efforts began the following year. Mexico declared Chihuahua free of CSF in September 1993. An epidemiological survey conducted a year later confirmed the absence of the virus. Chihuahua maintains an active surveillance system. This includes reporting of all suspected cases and sampling from commercial and backyard farms.

Sinaloa

The last outbreak of CSF in Sinaloa occurred in 1990, with vaccination prohibited the same year. Eradication efforts began in 1991, and Mexico declared Sinaloa free of CSF in 1993. Sinaloan animal health officials monitor all commercial herds on an annual basis.

Diagnostic Capabilities

Laboratories for CSF diagnosis include the National Center for Animal Health Diagnosis (CENASA), the Exotic Animal Disease Commission (EADC) laboratory, and eight laboratories accredited for the diagnosis of CSF located throughout the country. All positive samples are sent to the central laboratories in Mexico City for confirmation, and tissues from any suspect animal are sent to the EADC laboratory in Mexico City for virus isolation. Both CENASA and EADC use the same tests and testing schemes.

Vaccination Status

Vaccination has been prohibited in Baja California and Baja California Sur since 1986, in Chihuahua since 1989, and in Sinaloa since 1990.

Disease Status of Adjacent Regions

Baja California

Baja California is adjacent to the U.S. States of Arizona and California and the Mexican State of Sonora. CSF is not known to occur in any of these three States.

Baja California Sur

CSF is not known to exist in the Mexican State of Baja California, the only bordering State.

Chihuahua

Located in northern Mexico, Chihuahua borders the U.S. States of New Mexico and Texas to the north and northeast and the Mexican States of Coahuila on the east, Durango on the south, Sinaloa on the southwest, and Sonora on the west. All of these States have been declared free of CSF by the United States or Mexico.

Sinaloa

Sinaloa is adjacent to the Mexican States of Sonora, Chihuahua, Durango, and Nayarit. All of these States have been declared free of CSF by the government of Mexico.

Degree of Separation From Adjacent Regions

Baja California

Baja California has two natural barriers: The Gulf of California to the east and the Pacific Ocean to the west. The Colorado River forms the border between Sonora and Baja California.

Baja California Sur

Baja California Sur has two natural barriers: The Gulf of California to the east and the Pacific Ocean to the south and west. Baja California lies to the north.

Chihuahua

The eastern part of Chihuahua is desert, which provides a natural barrier between Chihuahua and Coahuila. The Sierra Madre Occidental Mountains in the west separate Chihuahua from Sonora and Sinaloa. Between Chihuahua and Durango lies a region of mountains and valleys, another geographical feature that complements the extensive permanent internal quarantine system designed to control movement of animals between States.

Sinaloa

Sinaloa is bordered on the east by the Sierra Madre Occidental Mountains, which separate the State from neighboring Durango to the southeast. The mountains also provide a limited number of access points. Sinaloa is bordered on the west by the Pacific Ocean and the Sea of Cortes. Nayarit is to the south, and Sonora and Chihuahua are to the north.

Movement Across Borders

Regulations controlling the movement of all land, air, and maritime traffic are the primary means for preventing the reintroduction of CSF into Baja California, Baja California Sur, Chihuahua, and Sinaloa. The entry of live hogs from CSF control zones in Mexico into free zones is not allowed. Hog products and byproducts moving from eradication or control zones to free zones must be processed and inspected by TIF establishments that are expressly authorized by the General Division of Animal Health to market their products and byproducts into CSF-free and eradication zones. Pork products from regions of lower health status may be imported only if they meet time- and temperature-related processing requirements and only if they originate from approved TIF plants. Transportation must be in vehicles sealed with metal straps. At airports, passenger baggage is examined, and because most domestic flights originate from areas not yet declared free of CSF, food served on airplanes is not permitted to contain pork.

Livestock Demographics and Marketing Practices

Baja California

In 2001, Baja California had 10 commercial farms with a total population of 15,251 pigs and an additional 6,951 head dispersed among 548 backyard operations. The presence of more pigs in commercial farms than backyard farms is rare in Mexico. The decreasing number of pigs in backyard operations further reduces the risk of a CSF outbreak in Baja California. Baja California has three TIF plants, two of which handle swine. One of the TIF plants has been authorized to export meat to the United States since 1996 and has exported pork to Japan since 1995 without incident. Baja California is not self-sufficient in pork production, and the pork processed at this facility originates from Sonora, the United States, and Canada.

Baja California Sur

Baja California Sur is a net importer of swine and has no TIF facility. The State has two farms that use semi-commercial production methods. According to an inventory taken in 2000, these 2 farms had a total population of 1,200 pigs. The remaining 20,550 head in the State were from backyard operations, in which pigs are raised, slaughtered and consumed on location.

Chihuahua

The swine inventory conducted in 2000 listed 2,626 head distributed among 5 commercial herds. In addition, there were 169,183 head of swine distributed among 45,714 backyard operations. Swine represented 5.8 percent of the total gross value of livestock production in Chihuahua in 2000. Chihuahua is a net exporter of pork. The Carnes Selecta Baeza Favez plant in Chihuahua is allowed to ship fresh and frozen pork to markets in Japan and other countries.

Sinaloa

The 1999 State swine census listed 284,614 hogs on over 33,500 premises. These figures included the 92,070 hogs on the State's 25 commercial farms. Nine of the State's 18 municipalities have commercial production, with the swine industry concentrated in the northern and central areas of the State. Sinaloa is a net exporter of pork. It is estimated that swine account for 10 percent of the total gross value of livestock production in the State and 3.5 percent of Mexico's swine production.

Detection and Eradication of Disease

CSF has been effectively controlled and eradicated from Baja California, Baja California Sur, Chihuahua, and Sinaloa and is not known to exist in those four States at this time. The government of Mexico and the State governments maintain a surveillance system capable of rapidly detecting CSF should the disease be reintroduced in any of the four States. The Federal government of Mexico and the State governments of Baja California, Baja California Sur, Chihuahua, and Sinaloa have the laws, policies and infrastructure to detect, respond to, and eliminate any reoccurrence of CSF.

These findings are described in further detail in a qualitative evaluation that may be obtained by contacting the person listed under FOR FURTHER INFORMATION CONTACT and may be viewed on the Internet at http://www.aphis.usda.gov/vs/reg-request.html by following the link for current requests and supporting documentation. The evaluation documents the factors that have led us to conclude that Baja California, Baja California Sur, Chihuahua, and Sinaloa are free of CSF. Therefore, we are proposing to recognize the Mexican States of Baja California, Baja California Sur, Chihuahua, and Sinaloa as free of CSF and to add them to the lists in §§ 94.9 and 94.10 of regions where CSF is not known to exist.

We are also proposing to amend § 94.15, which, among other things, sets out requirements for transit through the United States of pork and pork products that are not otherwise eligible for entry into the United States under part 94. Because these requirements would no longer apply to pork and pork products from Baja California, Baja California Sur, Chihuahua, and Sinaloa, references to these States in § 94.15(b) and § 94.15(b)(2) would be removed.

Executive Order 12866 and Regulatory Flexibility Act

This proposed rule has been reviewed under Executive Order 12866. The rule has been determined to be not significant for the purposes of Executive Order 12866 and, therefore, has not been reviewed by the Office of Management and Budget.

This proposed rule would amend the regulations in §§ 94.9 and 94.10 by adding the Mexican States of Baja California, Baja California Sur, Chihuahua, and Sinaloa to the list of regions considered free of CSF. The proposed changes would relieve the CSF-related restrictions imposed on the importation of pork, pork products, live swine, and swine semen from these regions.

Based on the assumption that these four States will not drastically increase their levels of hog and pig meat production over that of the last few years, the amount of pork, pork products, live swine, and swine semen that may potentially be imported into the United States from Baja California, Baja California Sur, Chihuahua, and Sinaloa is likely to be negligible. In 2000, the State of Sinaloa produced 1.1 percent of Mexico's live swine and 1.1 percent of its pig meat (FAS, USDA, GAIN Report, 2001), and Chihuahua produced 0.7 percent of Mexico's live swine and 0.5 percent of Mexico's pig meat (tables 1 and 2). The States of Baja California and Baja California Sur, which are not self-sufficient in pork production, produced smaller percentages. In 2001, these four States together produced less than 2 percent of Mexico's total number of live hogs (table 1) and slaughtered pigs (table 2). Between 1999 and 2001, Mexico exported around 3.3 percent of its annual production of pig meat (table 3), which amounted to 35,000 metric tons on average. Mexico has not exported any live swine since 1997 (table 4).

Table 1.—Live Hogs in Mexican States, 2001
State | Hogs in commercial farms | Hogs in backyard operations | Total
Baja California | 15,251 (in 10 farms) | 6,951 (in 548 farms) | 22,202 (0.09%)
Baja California Sur | 1,200 (in 2 farms) | 20,550 (in unknown number of farms) | 21,750 (0.09%)
Chihuahua | 2,626 (in 5 farms) | 169,183 (in 45,714 farms) | 171,809 (0.67%)
Sinaloa | 92,070 (in 25 farms) | 192,544 (in 33,475 farms) | 284,614 (1.11%)
Mexico | 25,736,000 (pig crop + beginning stocks) in both commercial and backyard operations.
Source: Risk Assessments of Importing Pork into the United States From the Mexican States of Baja California, Baja California Sur, Chihuahua, and Sinaloa; Risk Analysis Systems, PPD, APHIS, USDA.

Table 2.—Number of Hogs Slaughtered in Mexican Slaughterhouses
[Percentage of Mexico's total in parenthesis]
State | 1999 | 2000*
Baja California | 16,399 (0.15%) | 7,660 (0.13%)
Baja California Sur | 9,044 (0.08%) | 4,612 (0.08%)
Chihuahua | 60,634 (0.55%) | 31,117 (0.54%)
Sinaloa | 132,298 (1.19%) | 63,639 (1.11%)
Mexico | 11,110,978 | 5,729,229
Source: Confederacion Nacional Ganadera with data from SAGARPA. Sum of Federally Inspected Type (TIF) and Municipal Slaughterhouses.
* As of June 30, 2000.

Table 3.—Mexican Swine, Meat
[Metric tons]
Calendar year | 1999 | 2000 | 2001
Production | 994,000 | 1,035,000 | 1,060,000
Imports | 143,000 | 130,000 | 150,000
Total supply | 1,137,000 | 1,165,000 | 1,210,000
Exports | 33,000 | 35,000 | 40,000
Domestic consumption | 1,104,000 | 1,130,000 | 1,170,000
Total demand | 1,137,000 | 1,165,000 | 1,210,000
Source: USDA, FAS, GAIN Report #MX1010, Mexico, Livestock & Products, Semiannual Report 2001; Source for Stocks is the FAOSTAT Database.

Table 4.—Mexican Exports of Swine, Live Pure-Breeding—010310
| 1995 | 1996 | 1997 | 1998 | 1999 | 2000
Quantity | 8 | 29 | 22 | 0 | 0 | 0
Value | $5,000 | $439,000 | $170,000 |  |  |
Source: FAS Global Agricultural Trade System using data from the UN Statistical Office.
Data: Harmonized Tariff Schedule (HS 6 Digit).

The Regulatory Flexibility Act requires that agencies specifically consider the economic impact of their rules on small entities. The domestic entities most likely to be affected by our proposal to declare the Mexican States of Baja California, Baja California Sur, Chihuahua, and Sinaloa free of CSF are pork producers.

According to the 1997 Agricultural Census, there were about 102,106 hog and pig farms in the United States in that year, of which 93 percent received $750,000 or less in annual revenues. Agricultural operations with $750,000 or less in annual receipts are considered small entities, according to the Small Business Administration (SBA) size criteria.

We do not anticipate that any U.S. entities (i.e., importers of hogs and hog meat products, and hog producers), small or otherwise, would experience any negative economic effects as a result of this proposed action. This is because the amount of pork, pork products, live swine, and swine semen likely to be imported into the United States from Chihuahua and Sinaloa would be negligible. We expect that the amount of these articles likely to be imported from Baja California and Baja California Sur would either be less than that from the other two States or none at all.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects

9 CFR Part 71

Animal diseases, Livestock, Poultry and poultry products, Quarantine, Reporting and recordkeeping requirements, Transportation.

9 CFR Part 93

Animal diseases, Imports, Livestock, Poultry and poultry products, Quarantine, Reporting and recordkeeping requirements.

9 CFR Part 94

Animal diseases, Imports, Livestock, Meat and meat products, Milk, Poultry and poultry products, Reporting and recordkeeping requirements.

9 CFR Part 98

Animal diseases, Imports.

9 CFR Part 130

Animals, Birds, Diagnostic reagents, Exports, Imports, Poultry and poultry products, Quarantine, Reporting and recordkeeping requirements, Tests.

Accordingly, we propose to amend 9 CFR parts 71, 93, 94, 98, and 130 as follows:

PART 71—GENERAL PROVISIONS

1. The authority citation for part 71 would continue to read as follows:

Authority: 21 U.S.C. 111-113, 114a, 114a-1, 115-117, 120-126, 134b, and 134f; 7 CFR 2.22, 2.80, and 371.4.

§ 71.3 [Amended]

2. In § 71.3, paragraph (b) would be amended by removing the words “hog cholera” and adding the words “classical swine fever” in their place.

PART 93—IMPORTATION OF CERTAIN ANIMALS, BIRDS, AND POULTRY, AND CERTAIN ANIMAL, BIRD, AND POULTRY PRODUCTS; REQUIREMENTS FOR MEANS OF CONVEYANCE AND SHIPPING CONTAINERS

3. The authority citation for part 93 would continue to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

§ 93.505 [Amended]

4. In § 93.505, paragraph (a) would be amended by removing the words “hog cholera” and adding the words “classical swine fever” in their place.

§ 93.517 [Amended]

5. In § 93.517, paragraph (a) would be amended by removing the words “hog cholera” and adding the words “classical swine fever” in their place.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

6. The authority citation for part 94 would continue to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

7. The heading of part 94 would be revised to read as set forth above.

8. Section 94.9 would be amended as follows:

a. By revising the section heading and paragraph (a) to read as set forth below.

b. By removing the words “hog cholera” and adding in their place the words “classical swine fever” in following places:

i. Paragraph (b), introductory text.

ii. Paragraph (b)(1)(iii)(C).

iii. Paragraph (b)(1)(iii)(C)(1), both times they appear.

iv. Paragraph (b)(1)(iii)(C)(2), both times they appear.

v. Paragraph (c).

§ 94.9 Pork and pork products from regions where classical swine fever exists.

(a) Classical swine fever is known to exist in all regions of the world except Australia; Canada; Denmark; England, except for East Anglia (Essex, Norfolk, and Suffolk counties); Fiji; Finland; Iceland; Isle of Man; the Mexican States of Baja California, Baja California Sur, Chihuahua, and Sinaloa; New Zealand; Northern Ireland; Norway; the Republic of Ireland; Sweden; Trust Territory of the Pacific Islands; and Wales.

* * * * *

9. Section 94.10 would be amended by revising the section heading and paragraph (a) to read as follows:

§ 94.10 Swine from regions where classical swine fever exists.

(a) Classical swine fever is known to exist in all regions of the world except Australia; Canada; Denmark; England, except for East Anglia (Essex, Norfolk, and Suffolk counties); Fiji; Finland; Iceland; Isle of Man; the Mexican States of Baja California, Baja California Sur, Chihuahua, and Sinaloa; New Zealand; Northern Ireland; Norway; the Republic of Ireland; Sweden; Trust Territory of the Pacific Islands; and Wales. No swine that are moved from or transit any region where classical swine fever is known to exist may be imported into the United States, except for wild swine imported into the United States in accordance with paragraph (b) of this section.

* * * * *

§ 94.15 [Amended]

10. Section 94.15 would be amended by removing the words “Baja California, Baja California Sur,”, “Chihuahua,”, and “Sinaloa,” in the following places:

a. The introductory text of paragraph (b).

b. Paragraph (b)(2).

§ 94.17 [Amended]

11. Section 94.17 would be amended by removing the words “hog cholera” and adding in their place the words “classical swine fever” in the following places:

a. The section heading.

b. Paragraph (b).

c. Paragraph (c).

§ 94.20 [Amended]

12. In § 94.20, paragraph (c) and the introductory text of paragraph (e) would be amended by removing the words “hog cholera” and adding in their place the words “classical swine fever”.

PART 98—IMPORTATION OF CERTAIN ANIMAL EMBRYOS AND ANIMAL SEMEN

13. The authority citation for part 98 would continue to read as follows:

Authority: 7 U.S.C. 1622; 19 U.S.C. 1306; 21 U.S.C. 103-105, 111, 134a, 134b, 134c, 134d, 134f, 136, and 136a; 31 U.S.C. 9701; 7 CFR 2.22, 2.80, and 371.4.

§ 98.15 [Amended]

14. Section 98.15 would be amended by removing the words “hog cholera” and adding in their place the words “classical swine fever” in the following places:

a. Paragraph (a)(1)(ii).

b. Paragraph (a)(2)(ii).

c. Paragraph (a)(5)(ii)(B).

d. Paragraph (a)(7)(i)(B).

e. Paragraph (a)(8)(i)(B).

§ 98.34 [Amended]

15. Section 98.34 would be amended as follows:

a. By removing the words “hog cholera” and adding in their place the words “classical swine fever” in the following places:

i. Paragraph (c)(7)(ii).

ii. Paragraph (c)(7)(iii)(G).

b. In paragraph (c)(7)(iii)(D), by removing the words “Hog cholera” and adding in their place the words “Classical swine fever”.

PART 130—USER FEES

16. The authority citation for part 130 would continue to read as follows:

Authority: 5 U.S.C. 5542; 7 U.S.C. 1622; 19 U.S.C. 1306; 21 U.S.C. 102-105, 111, 114, 114a, 134a, 134c, 134d, 134f, 136, and 136a; 31 U.S.C. 3701, 3716, 3717, 3719, and 3720A; 7 CFR 2.22, 2.80, and 371.4.

§ 130.14 [Amended]

17. In § 130.14, paragraph (b), the table would be amended in the column titled “Test” by removing the words “(hog cholera)” in the entry for Fluorescent antibody neutralization and adding in their place the words “(classical swine fever)”.

18. In § 130.18, paragraph (b), the table would be amended by removing the entry for Hog cholera tissue sets and adding a new entry in alphabetical order to read as follows:

§ 130.18 User fees for veterinary diagnostic reagents produced at NVSL or other authorized site (excluding FADDL).

* * * * *

(b) * * *

Reagent | User fee | Unit
* * * * *
Classical swine fever tissue sets | 81.50 | Tissue set.
* * * * *

Done in Washington, DC, this 7th day of May, 2002.
Peter Fernandez,
Acting Administrator, Animal and Plant Health Inspection Service.

[FR Doc. 02-11897 Filed 5-10-02; 8:45 am]

BILLING CODE 3410-34-P